DEPARTMENT OF STATE

[Public Notice 7168]

Shipping Coordinating Committee; Notice of Committee Meeting

The Shipping Coordinating Committee (SHC) will conduct an open meeting at 9:30 a.m. on Friday November 12, 2010, in Room 2415 of the United States Coast Guard Headquarters Building, 2100 Second Street, SW., Washington, DC 20593-0001. The primary purpose of the meeting is to prepare for the eighty-eighth Session of the International Maritime Organization's (IMO) Maritime Safety Committee to be held at the IMO Headquarters, United Kingdom, from November 24 to December 3, 2010.

The primary matters to be considered include:

—Adoption of the agenda; report on credentials

—Decisions of other IMO bodies, including the 2010 STCW Conference

—Consideration and adoption of amendments to mandatory instruments

—Measures to enhance maritime security

—Goal-based new ship construction standards

—LRIT-related matters

—Ship design and equipment

—Radiocommunications and search and rescue

—Fire protection

—Flag State implementation

—Safety of navigation

—Dangerous goods, solid cargoes and containers

—Training and watchkeeping

—Technical assistance sub-programme in maritime safety and security

—Capacity-building for the implementation of new measures

—Role of the human element

—Formal safety assessment

—Piracy and armed robbery against ships

—General cargo ship safety

—Implementation of instruments and related matters

—Relations with other organizations

—Application of the Committee's Guidelines

—Work programme

—Election of Chairman and Vice-Chairman for 2011

Members of the public may attend this meeting up to the seating capacity of the room. To facilitate the building security process, and to request reasonable accommodation, those who plan to attend should contact the meeting coordinator, LCDR Jason Smith, by e-mail at jason.e.smith2@uscg.mil, by phone at (202) 372-1376, by fax at (202) 372-1925, or in writing at Commandant (CG-52), U.S. Coast Guard, 2100 2nd Street, SW., Stop 7126, Washington, DC 20593-7126 not later than Friday November 5th 2010, 7 days prior to the meeting. Requests made after November 5th might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: October 13, 2010.
Jon Trent Warner,
Executive Secretary, Shipping Coordinating Committee, Department of State.

[FR Doc. 2010-26265 Filed 10-18-10; 8:45 am]

BILLING CODE 4710-09-P